DEPARTMENT OF THE INTERIOR

Bureau of Indian Affairs

Indian Gaming

AGENCY: Bureau of Indian Affairs, Interior.

ACTION: Notice of Class III Gaming Compact taking effect.

SUMMARY: Notice is given that the Tribal-State gaming compact between the Wichita and Affiliated Tribes and the State of Oklahoma is considered approved and is in effect.

DATES: Effective Date: September 12, 2006.

FOR FURTHER INFORMATION CONTACT: George T. Skibine, Director, Office of Indian Gaming Management, Office of the Deputy Assistant Secretary—Policy and Economic Development, Washington, DC 20240, (202) 219-4066.

SUPPLEMENTARY INFORMATION: Under Section 11(d)(7)(D) of the Indian Gaming Regulatory Act of 1988 (IGRA), Public Law 100-497, 25 U.S.C. 2710, the Secretary of the Interior must publish in the Federal Register notice of any Tribal-State compact that is approved, or considered to have been approved for the purpose of engaging in Class III gaming activities on Indian lands. The Principal Deputy Assistant Secretary—Indian Affairs, Department of the Interior, through his delegated authority did not approve or disapprove this compact before the date that is 45 days after the date it was submitted. Therefore, pursuant to 25 U.S.C. 2710(d)(7)(C), this compact is considered approved but only to the extent it is consistent with IGRA. This compact authorizes the Wichita and Affiliated Tribes to engage in certain Class III gaming activities, provides for certain geographical exclusivity, limits the number of gaming machines at existing racetracks, and prohibits non-tribal operation of certain machines and covered games, and takes effect on the date the approval is published in the Federal Register.

Dated: August 23, 2006.
Michael D. Olsen,
Principal Deputy Assistant Secretary—Indian Affairs.

[FR Doc. E6-15027 Filed 9-11-06; 8:45 am]

BILLING CODE 4310-4N-P